DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 23, 2011.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington DC or at http://regulations.gov.

This notice of receipt of applications for special permit is published in accordance with Part 107 of the Federal hazardous materials transportation law (49 U.S.C. 5117(b); 49 CFR 1.53(b)).

Application No. | Docket No. | Applicant | Regulation(s) affected | Nature of special permits thereof
NEW SPECIAL PERMITS
15138-N |  | Transportation Systems Solutions, Crystal Lake, IL | 49 CFR 172.101, 172.326, 172.514, 172.544, 173.2a, 173.120(b) and 173.150(f)(3) | To authorize the transportation in commerce of certain combustible liquids in bulk packagings that are also marine pollutants in the port area without placards. (modes 1, 2, 3)
15304-N |  | Hillsboro Aviation, Hillsboro, OR | 49 CFR 172.101, Column (9B), 172.204(c)(3), 173.27(b)(2), 175.30(a)(1), 172.200, 172.300, and 172.400 | To authorize the transportation in commerce of certain hazardous materials by external load on helicopters in remote areas of the US without being subject to hazard communication requirements and quantity limitations where no other means of transportation is available. (mode 4)
15314-N |  | Mohawk Electrical | 49 CFR 173.62 | To authorize the transportation in commerce of three (3) Mines, 1.1D in alternative packaging by motor vehicle and cargo vessel. (modes 1, 3)
15317-N |  | The Dow Chemical Company, Philadelphia, PA | 49 CFR 172.203(a), 172.302(c), 173.31(e)(2)(ii), 173.314, and 173.323(c)(ii) | To authorize the transportation in commerce of ethylene oxide in a DOT 105J400W tank car with a maximum gross rail load (GRL) not to exceed 286,000 pounds. (mode 2)
15335-N |  | Seastar Chemicals Inc., Sidney, BC | 49 CFR 173.158(f)(3) | To authorize the transportation in commerce of nitric acid up to 70% concentration in an alternative packaging configuration. (modes 1, 2, 3)

Issued in Washington, DC, on April 12, 2011.
Donald Burger,
Chief, Special Permits and Approvals Branch.

[FR Doc. 2011-9494 Filed 4-20-11; 8:45 am]

BILLING CODE 4909-60-M